NUCLEAR REGULATORY COMMISSION

Advisory Committee on Nuclear Waste, Meetings of the ACNW Ad Hoc Subcommittee on Waste Management and the ACNW Full Committee; Notice of Meeting

The ACNW Ad Hoc Subcommittee on Waste Management will hold a meeting on August 15-16, 2006, Room T-2B3, 11545 Rockville Pike, Rockville, Maryland.

The entire meeting will be open to public attendance.

The agenda for the subject meeting shall be as follows:

Tuesday and Wednesday, August 15-16, 2006—8:30 a.m. until the conclusion of business.

The Ad Hoc Subcommittee will discuss the following proposed ACNW reports:

(1) Draft Standard Review Plan for Waste Determinations.

(2) Predicting the Performance of Cementitious Barriers.

(3) Draft Rule/Guidance on Preventing Legacy Sites.

(4) Dry Cask Storage PRA.

The Ad Hoc Subcommittee will gather information, analyze relevant issues and facts, and formulate proposed positions and actions, as appropriate, for deliberation by the full Committee on Thursday, August 17, 2006.

Members of the public desiring to provide oral statements and/or written comments should notify the Designated Federal Official, Mr. Antonio F. Dias (telephone 301-415-6805) five days prior to the meeting, if possible, so that appropriate arrangements can be made. Electronic recordings will be permitted.

Thursday, August 17, 2006—8:30 a.m. until the conclusion of business.

The full Committee will discuss and approve the proposed ACNW reports noted above.

Procedures for the conduct of and participation in ACNW meetings were published in the Federal Register on October 11, 2005 (70 FR 59081). In accordance with these procedures, oral or written statements may be presented by members of the public. Electronic recordings will be permitted only during those portions of the meeting that are open to the public. Persons desiring to make oral statements should notify Mr. Antonio F. Dias (telephone 301-415-6805), between 8:15 a.m. and 5 p.m. ET, as far in advance as practicable so that appropriate arrangements can be made to schedule the necessary time during the meeting for such statements. Use of still, motion picture, and television cameras during this meeting will be limited to selected portions of the meeting as determined by the ACNW Chairman. Information regarding the time to be set aside for taking pictures may be obtained by contacting the ACNW office prior to the meeting. In view of the possibility that the schedule for ACNW meetings may be adjusted by the Chairman as necessary to facilitate the conduct of the meeting, persons planning to attend should notify Mr. Dias as to their particular needs.

Further information regarding this meeting can be obtained by contacting the Designated Federal Official between 7:30 a.m. and 4:15 p.m. (ET). Persons planning to attend this meeting are urged to contact the above named individual at least two working days prior to the meeting to be advised of any potential changes to the agenda.

Dated: August 3, 2006.
Michael R. Snodderly,
Branch Chief, ACRS/ACNW.

[FR Doc. E6-12915 Filed 8-8-06; 8:45 am]

BILLING CODE 7590-01-P